DEPARTMENT OF TRANSPORTATION

Federal Aviation Administration

14 CFR Part 39

[Docket No. FAA-2021-0021; Project Identifier MCAI-2020-01088-R; Amendment 39-21994; AD 2021-03-16R1]

RIN 2120-AA64

Airworthiness Directives; Airbus Helicopters

AGENCY: Federal Aviation Administration (FAA), Department of Transportation (DOT).

ACTION: Final rule; removal; request for comments.

SUMMARY: The FAA is removing Airworthiness Directive (AD) 2021-03-16, which applied to all Airbus Helicopters Model AS350B, AS350B1, AS350B2, AS350B3, AS350BA, AS350D, AS355E, AS355F, AS355F1, AS355F2, AS355N, and AS355NP helicopters. AD 2021-03-16 required inspecting each sliding door and replacing the upper rail or front roller or removing the front roller from service if necessary. Since the FAA issued AD 2021-03-16, inspection results and further investigation have confirmed that the in-flight loss of a sliding door, which prompted AD 2021-03-16, was an isolated case resulting from incorrect operation and maintenance error. Therefore, the FAA has determined that no unsafe condition is likely to exist or develop on the sliding doors on other helicopters in the fleet. Accordingly, AD 2021-03-16 is removed.

DATES: This AD becomes effective March 24, 2022.

The FAA must receive comments on this AD by May 9, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket at https://www.regulations.gov by searching for and locating Docket No. FAA-2021-0021; or in person at Docket Operations between 9 a.m. and 5 p.m., Monday through Friday, except Federal holidays. The AD docket contains this final rule, the European Union Aviation Safety Agency (EASA) AD, any comments received, and other information. The address for Docket Operations is U.S. Department of Transportation, Docket Operations, M-30, West Building Ground Floor, Room W12-140, 1200 New Jersey Avenue SE, Washington, DC 20590.

FOR FURTHER INFORMATION CONTACT: Matt Fuller, AD Program Manager, General Aviation & Rotorcraft Unit, Airworthiness Products Section, Operational Safety Branch, FAA, 10101 Hillwood Pkwy., Fort Worth, TX 76177; telephone 817-222-5110; email matthew.fuller@faa.gov.

SUPPLEMENTARY INFORMATION:

Comments Invited

The FAA invites you to send any written data, views, or arguments about this final rule. Send your comments to an address listed under ADDRESSES. Include “Docket No. FAA-2021-0021 and Project Identifier MCAI-2020-01088-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Matt Fuller, AD Program Manager, General Aviation & Rotorcraft Unit, Airworthiness Products Section, Operational Safety Branch, FAA, 10101 Hillwood Pkwy., Fort Worth, TX 76177; telephone 817-222-5110; email matthew.fuller@faa.gov. Any commentary that the FAA receives which is not specifically designated as CBI will be placed in the public docket for this rulemaking.

Background

EASA, which is the Technical Agent for the Member States of the European Union, has issued EASA AD 2020-0175-CN, dated September 13, 2021 (EASA AD 2020-0175-CN) to cancel EASA AD 2020-0175, dated August 5, 2020 (EASA AD 2020-0175) which was issued to correct an unsafe condition for all serial-numbered Airbus Helicopters Model AS 350 and AS 355 helicopters if equipped with a left-hand (LH) and/or right-hand (RH) sliding door. EASA AD 2020-0175 prompted FAA

AD 2021-03-16, Amendment 39-21419 (86 FR 9433, February 16, 2021) (AD 2021-03-16). AD 2021-03-16 applied to Airbus Helicopters Model AS350B, AS350B1, AS350B2, AS350B3, AS350BA, AS350D, AS355E, AS355F, AS355F1, AS355F2, AS355N, and AS355NP helicopters with any sliding door installed. AD 2021-03-16 required, within 30 hours time-in-service, inspecting the upper rail of each RH and LH door for parallelism, deformation, corrosion, and cracking and repairing or replacing the upper rail before further flight if necessary; and with each sliding door removed, inspecting the front roller to determine if it is below the minimum diameter and height, if it has any corrosion or flat spot, and if it is correctly installed. If the front roller was below the minimum diameter, below the minimum height, or had any flat spot or corrosion, AD 2021-03-16 required removing the front roller from service before further flight. If the front roller was not correctly installed, AD 2021-03-16 required reinstalling it correctly before further flight.

Actions Since AD 2021-03-16 Was Issued

Since the FAA issued AD 2021-03-16, reported inspection results and further investigation have confirmed that the in-flight loss of the sliding door, which prompted EASA AD 2020-0175 and AD 2021-03-16, was an isolated case resulting from incorrect operation and maintenance error, and therefore no unsafe condition is likely to exist or develop on the affected helicopters. The FAA is issuing this AD to remove AD 2021-03-16.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently 965 helicopters of U.S. registry affected by AD 2021-03-16. However, the FAA notes that AD 2021-03-16 required unnecessary inspections because the identified unsafe condition does not exist on these helicopters. Therefore, it is unlikely that the FAA would receive any adverse comments or useful information about this AD from U.S. operators that would cause a need for public comment prior to adoption. Accordingly, notice and opportunity for prior public comment are unnecessary, pursuant to 5 U.S.C. 553(b)(3)(B). In addition, for the foregoing reasons, the FAA finds that good cause exists pursuant to 5 U.S.C. 553(d) for making this amendment effective in less than 30 days.

FAA's Conclusions

Upon further consideration, the FAA has determined that AD 2021-03-16 is not necessary. Accordingly, this AD removes AD 2021-03-16. Removal of AD 2021-03-16 does not preclude the FAA from issuing another related action or commit the FAA to any course of action in the future.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Related Costs of Compliance

This AD adds no cost. This AD removes AD 2021-03-16 from 14 CFR part 39; therefore, operators are no longer required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866; and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-03-16, Amendment 39-21419 (86 FR 9433, February 16, 2021), and

b. Adding the following new AD:

2021-03-16R1 Airbus Helicopters: Amendment 39-21994; Docket No. FAA-2021-0021; Project Identifier MCAI-2020-01088-R.

(a) Effective Date

This airworthiness directive (AD) becomes effective March 24, 2022.

(b) Affected AD

This AD replaces AD 2021-03-16, Amendment 39-21419 (86 FR 9433, February 16, 2021).

(c) Applicability

This airworthiness directive (AD) applies to Airbus Helicopters Model AS350B, AS350B1, AS350B2, AS350B3, AS350BA, AS350D, AS355E, AS355F, AS355F1, AS355F2, AS355N, and AS355NP helicopters, certificated in any category, with any sliding door installed.

(d) Subject

Joint Aircraft System Component (JASC) Code 5210, Passenger/Crew Doors.

(e) Related Information

(1) For more information about this AD, contact Matt Fuller, AD Program Manager, General Aviation & Rotorcraft Unit, Airworthiness Products Section, Operational Safety Branch, FAA, 10101 Hillwood Pkwy., Fort Worth, TX 76177; telephone 817-222-5110; email matthew.fuller@faa.gov.

(2) The subject of this AD is addressed in European Union Aviation Safety Agency (EASA) AD No. 2020-0175-CN, dated September 13, 2021. You may view the EASA AD on the internet at https://www.regulations.gov by searching for and locating it in Docket No. FAA-2021-0021.

(f) Material Incorporated by Reference

None.

Issued on March 17, 2022.
Lance T. Gant,
Director, Compliance & Airworthiness Division, Aircraft Certification Service.

[FR Doc. 2022-06043 Filed 3-23-22; 8:45 am]

BILLING CODE 4910-13-P